ENVIRONMENTAL PROTECTION AGENCY

[FRL-7151-4]

EPA Draft Human Health and Ecological Risk Assessment of Perchlorate

AGENCY: Environmental Protection Agency.

ACTION: Notice of second extension of public comment period.

SUMMARY: The U.S. Environmental Protection Agency (EPA) is extending the public comment period on the revised draft report, “Perchlorate Environmental Contamination: Toxicological Review and Risk Characterization” (NCEA-1-0503), by 45 days to April 5, 2002. On January 2, 2002, EPA published a Federal Register notice (67 FR 75) announcing: (1) The public availability, expected on January 9, 2002, of the revised draft document; (2) the beginning of a 30-day public comment period; and (3) an external peer review workshop in Sacramento, California, on March 5 and 6, 2002. In addition, a notice correcting the address for electronic registration and electronic submission of public comments was published on January 14, 2002 (67 FR 1759). Because of an approximately one-week delay in public release and availability of the perchlorate external review draft, EPA extended the public comment period to February 19, 2002 (67 FR 3493, January 24, 2002). EPA has decided to extend the comment period to April 5, 2002, in response to the high level of interest in this draft document and because of several requests for extension of the comment period.

Therefore, comments postmarked by February 19, 2002, will be made available to the peer review panel prior to the peer review. Comments received between February 19 and March 5, 2002, will be made available to the peer reviewers at the peer review meeting. Comments received after the peer review meeting and up until April 5, 2002, will also be made available to the peer reviewers. It should be noted that, as with all peer review meetings, the panelists are not charged directly with reading or considering all observer comments. Rather, it is up to the professional judgment of the reviewers to consider observer comments as they deem appropriate. In addition, the review of and response to public comments is the responsibility of the EPA, as the Agency moves forward with the development of the assessment.

In order to be most effective, external comments need to be provided to the Agency contractor, Eastern Research Group, Inc. (ERG), by April 5, 2002. As is the EPA's normal procedure, the Agency will summarize and indicate the disposition of all major comments provided by April 5, 2002, in preparation for its release of the assessment in final form.

DATES: Comments should be in writing and must be received (not postmarked) by April 5, 2002.

ADDRESSES: Written comments on the draft document should be submitted to Eastern Research Group (ERG), Attn: Meetings, 110 Hartwell Avenue, Lexington, MA 02421. Comments under 50 pages may be sent via e-mail attachment (in Word, WordPerfect, or pdf) to meetings@erg.com. The external review draft of the perchlorate document is available on EPA's National Center for Environmental Assessment (NCEA) Web site at http://www.epa.gov/ncea.

FOR FURTHER INFORMATION CONTACT: Questions regarding observer registration for the workshop and submission of written comments should be directed to EPA's contractor, ERG, at 781-674-7374. For technical inquiries, please contact: Annie M. Jarabek, U.S. Environmental Protection Agency (MD 52), U.S. EPA Mailroom, Research Triangle Park, NC 27711; telephone 919-541-4847; facsimile 919-541-1818; e-mail jarabek.annie@epa.gov.

Dated: February 22, 2002.
George W. Alapas,
Acting Director, National Center for Environmental Assessment.

[FR Doc. 02-4789 Filed 2-27-02; 8:45 am]

BILLING CODE 6560-50-M